DEPARTMENT OF COMMERCE

National Oceanic and Atmospheric Administration

Proposed Boundary Expansion for the South Slough National Estuarine Research Reserve

AGENCY: Office for Coastal Management (OCM), National Ocean Service (NOS), National Oceanic and Atmospheric Administration (NOAA), Department of Commerce (DOC).

ACTION: Notice of proposed boundary expansion and availability of a draft environmental assessment; request for comments.

SUMMARY: The National Oceanic and Atmospheric Administration (NOAA) is considering a request to expand the boundary of the South Slough National Estuarine Research Reserve (SSNERR or the Reserve) and is soliciting comments from the public on the proposed boundary expansion. The public is also invited to comment on the draft environmental assessment for the proposed boundary expansion.

DATES: Comments must be received at the appropriate address (see ADDRESSES) on or before November 17, 2023.

ADDRESSES: The draft environmental assessment describing the proposed boundary expansion can be downloaded or viewed at coast.noaa.gov/czm/compliance/. The document is also available by sending a written request to the point of contact identified below (see FOR FURTHER INFORMATION CONTACT).

Comments may be submitted by the following method:

Federal eRulemaking Portal: https://www.regulations.gov. Submit electronic comments via the Federal eRulemaking Portal and search for Docket Number NOAA-NOS-2023-0132. Enter N/A in the required fields to remain anonymous).

Mail: Submit written comments to John King, Office for Coastal Management, 1305 East-West Highway, N/ORM, 10th Floor, Silver Spring, MD 20910.

Comments submitted by any other method or after the comment period may not be considered. NOAA will accept anonymous comments; however, the written comments NOAA receives are a part of the public record, and the entirety of the comment, including the name of the commenter, email address, attachments, and other supporting materials, will be publicly accessible. Sensitive personally identifiable information, such as account numbers and Social Security numbers, should not be included with the comment. Comments that are not related to the proposed boundary expansion of the South Slough National Estuarine Research Reserve or that contain profanity, vulgarity, threats, or other inappropriate language will not be considered.

FOR FURTHER INFORMATION CONTACT: Brian Bloodworth, NOAA Office for Coastal Management, 1305 East West Highway, Silver Spring MD 20910, or brian.bloodworth@noaa.gov, 1-304-279-1460.

SUPPLEMENTARY INFORMATION:

I. Background

The Oregon Department of State Lands, as lead agency for managing the South Slough National Estuarine Research Reserve, has requested approval to modify the Reserve's geographic boundary by adding eight new parcels, including 1,771 acres (approximately 7.17 square km), which comprises the addition of: 30 acres (0.12 sq. km) to correct for the use of current GIS-based technology in calculating updated acreage for the boundary area since it was established in 1974; 1,541 acres (6.24 sq. km) of lands acquired since 2008 that are owned and managed by the Reserve outside of the SSNERR boundary; and 200 acres (0.81 sq.km) of State-owned waters in South Slough that connect the lands acquired since 2008. In addition, SSNERR is also exploring two proposed future acquisitions totaling 105 acres (0.42 sq. km), and a land-swap for an entrance parcel expansion. Pursuant to 15 CFR 921.33(a), NOAA may require public notice, including notice in the Federal Register and an opportunity for public comment, before approving a boundary or management plan change. In addition, boundary changes involving the acquisition of properties not listed in the Reserve's management plan or final environmental impact statement require public notice and the opportunity for comment. Since the new parcels were not evaluated in the Reserve's original environmental impact statement, NOAA has developed an environmental assessment pursuant to the National Environmental Policy Act of 1969 (NEPA), as amended, 42 U.S.C. 4321 et seq., and the Council on Environmental Quality Regulations for Implementing the Procedural Provisions of NEPA (40 CFR 1500-1508), to analyze the effects of the requested change, and is publishing notice of the availability of this draft environmental assessment for public review and comment on the proposed boundary change and associated environmental assessment.

II. NOAA Proposed Action and Alternatives

In accordance with NEPA and the Council on Environmental Quality Regulations, NOAA is releasing a draft environmental assessment. NOAA's proposed action would be to approve a change in the boundary of the SSNERR to add 1,771 acres (7.17 sq. km) to the current boundary.

The draft environmental assessment identifies and assesses potential environmental impacts associated with the proposed boundary expansion, and identifies a preferred alternative and a no action alternative. The preferred alternative would add 1,771 acres (7.17 sq. km) to the SSNERR's boundary, which would result in a net increase in size to 6,542 acres (26.47 sq. km), and 6,647 acres (26.90 sq. km) if all proposed future land acquisitions are made. As a result, NOAA believes the proposed boundary expansion would formally incorporate land parcels within the SSNERR, which would protect lands of biological importance, allow the SSNERR to further its research and stewardship mission, provide additional lands/uses for public use, and provide an opportunity for more integrated ecosystem management. Therefore, NOAA prefers the proposed boundary expansion over the no action alternative.

Authority: 16 U.S.C.1451 et seq.; 15 CFR 921.33.

Keelin S. Kuipers,
Deputy Director, Office for Coastal Management, National Ocean Service, National Oceanic and Atmospheric Administration.

[FR Doc. 2023-22583 Filed 10-17-23; 8:45 am]

BILLING CODE 3510-NK-P